DEPARTMENT OF ENERGY

Federal Energy Regulatory Commission

[Docket No. PR03-3-002]

Enogex Inc.; Notice of Refund Report

November 20, 2003.

Take notice that on November 12, 2003, Enogex Inc. tendered for filing: (1) A final report showing, according to Enogex, Inc., the calculations that true-up, for the final time, the fuel tracker that was in effect until June 30, 2003 for the Palo Duro Pipeline System; and (2) a refund report showing the refunds made to affected customers in connection with such final true-up.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: November 28, 2003.

Magalie R. Salas,
Secretary.

[FR Doc. E3-00406 Filed 11-28-03; 8:45 am]

BILLING CODE 6717-01-P